FEDERAL COMMUNICATIONS COMMISSION

Notice of Public Information Collection(s) Being Submitted to OMB for Review and Approval

December 1, 2004.

Summary: The Federal Communications Commissions, as part of its continuing effort to reduce paperwork burden invites the general public and other Federal agencies to take this opportunity to comment on the following information collection, as required by the Paperwork Reduction Act of 1995, Pub. L. 104-13. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

Dates: Written comments should be submitted on or before January 10, 2005. If you anticipate that you will be submitting comments, but find it difficult to do so within the period of time allowed by this notice, you should advise the contact listed below as soon as possible.

Addresses: Direct all comments to Cathy Williams, Federal Communications Commission, Room 1-C823, 445 12th Street, SW., Washington, DC 20554 or via the Internet to Cathy.Williams@fcc.gov or Kristy L. LaLonde, Office of Management and Budget (OMB), Room 10236 NEOB, Washington, DC 20503, (202) 395-3087 or via the Internet at Kristy_L._LaLonde@omb.eop.gov.

For Further Information Contact: For additional information or copy of the information collection(s) contact Cathy Williams at (202) 418-2918 or via the Internet at Cathy.Williams@fcc.gov.

Supplementary Information: OMB Control Number: 3060-0316.

Title: Section 76.1700, Records To Be Maintained Locally by Cable System Operators for Public Inspection.

Form Number: Not Applicable.

Type of Review: Extension of a currently approved collection.

Respondents: Business or other for-profit entities.

Number of Respondents: 4,000.

Estimated Time per Response: 26 hours.

Frequency of Response: Recordkeeping requirement.

Total Annual Burden: 104,000 hours.

Total Annual Cost: None.

Privacy Impact Assessment: No impact(s).

Needs and Uses: 47 CFR Section 76.1700 of the Commission's rules requires cable television systems having 1,000 or more subscribers to maintain a public inspection file containing certain records. The records are used by FCC staff in field inspections/investigations, local public officials, and the public to access a cable television system's performance and to ensure that the system is in compliance with all of the Commission's applicable rules and regulations.

OMB Control Number: 3060-0332.

Title: Section 76.614, Cable Television System Regular Monitoring and Section 76.1706, Signal Leakage Logs and Repair Records.

Form Number: Not Applicable.

Type of Review: Extension of a currently approved collection.

Respondents: Business or other for-profit entities.

Number of Respondents: 8,250.

Estimated Time per Response: 0.5 hours.

Frequency of Response: Recordkeeping requirement; On occasion reporting requirement.

Total Annual Burden: 5,775 hours.

Total Annual Cost: None.

Privacy Impact Assessment: No impact(s).

Needs and Uses: The requirements under this OMB control number were previously contained in 47 CFR Section 76.614. The data is used by cable television systems and the Commission to prevent, locate and eliminate harmful interference as it occurs, to help assure safe operation of aeronautical and marine radio services, and to minimize the possibility of interference to these safety-of-life services.

Federal Communications Commission.
William F. Caton,
Deputy Secretary.

[FR Doc. 04-27056 Filed 12-8-04; 8:45 am]

BILLING CODE 6712-01-P